DEPARTMENT OF THE INTERIOR

Fish and Wildlife Service

Availability of Draft Implementation Plan for Falconry Take of Nestling American Peregrine Falcons in the Contiguous United States and Alaska

AGENCY: Fish and Wildlife Service, Interior.

ACTION: Notice of availability.

SUMMARY: This notice is to announce the availability of the Draft Implementation Plan for take for falconry of nestling American peregrine falcons in the contiguous United States and Alaska. The Implementation Plan is intended to assist the States in implementing the selected alternative from our May 2001 Environmental Assessment on take of nestlings. We seek public comment on the Draft Plan.

DATES: Comments on the Draft Implementation Plan are due by November 8, 2001.

ADDRESSES: The Plan is available from, and written comments about it should be submitted to, Chief, Division of Migratory Bird Management, U.S. Fish and Wildlife Service, 4401 North Fairfax Drive, Room 634, Arlington, Virginia 22203-1610. You can request a copy of the Plan by calling 703/358-1714. The fax number for a request or for comments is 703/358-2272. The Plan also is available on the Division of Migratory Bird Management web pages at http://migratorybirds.fws.gov.

FOR FURTHER INFORMATION CONTACT: Jon Andrew, Chief, Division of Migratory Bird Management, U.S. Fish and Wildlife Service, at 703/358-1714 or the address above.

SUPPLEMENTARY INFORMATION: The Implementation Plan provides additional details to be used by the States for implementing the alternative selected. The Plan outlines the procedures we will follow in reviewing and adjusting the allowed take of nestling American peregrine falcons in accordance with the best available information about the population.

Dated: October 1, 2001.
Kevin Adams,
Director.

[FR Doc. 01-25161 Filed 10-5-01; 8:45 am]

BILLING CODE 4310-55-P